DEPARTMENT OF HOMELAND SECURITY

Coast Guard

33 CFR Part 100

[CGD05-04-165]

RIN 1625-AA08

Special Local Regulations for Marine Events; Norfolk Harbor, Elizabeth River, Norfolk and Portsmouth, VA

AGENCY: Coast Guard, DHS.

ACTION: Notice of implementation of regulation.

SUMMARY: The Coast Guard is implementing the special local regulations at 33 CFR 100.501 during the “Chesapeake Bay Workboat Races” to be held September 19, 2004, on the waters of the Elizabeth River between Norfolk and Portsmouth, Virginia. These special local regulations are necessary to control vessel traffic due to the confined nature of the waterway and expected vessel congestion during the marine event. The effect will be to restrict general navigation in the regulated area for the safety of participants, spectators and other vessels transiting the event area.

DATES: Enforcement Dates: 33 CFR 100.501 will be enforced from 1:30 p.m. to 4:30 p.m. on September 19, 2004.

FOR FURTHER INFORMATION CONTACT: S.L. Phillips, Project Manager, Commander, Fifth Coast Guard District, 431 Crawford Street, Portsmouth, VA 23704, (757) 398-6204.

SUPPLEMENTARY INFORMATION: Norfolk Festevents will sponsor the “Chesapeake Bay Workboat Races” on the waters of the Elizabeth River on September 19, 2004. Approximately 25 traditional Chesapeake Bay deadrise workboats will race along an oval course in the Norfolk Harbor. A fleet of spectator vessels is expected. Therefore, to ensure the safety of participants, spectators, and transiting vessels, 33 CFR 100.501 will be enforced for the duration of the event. Under the provisions of 33 CFR 100.501, a vessel may not enter the regulated area unless it receives permission from the Coast Guard Patrol Commander. Vessel traffic will be allowed to transit the regulated area as the race progresses, when the Patrol Commander determines it is safe to do so.

In addition to this notice, the maritime community will be provided extensive advance notification via the Local Notice to Mariners, marine information broadcasts, and area newspapers, so mariners can adjust their plans accordingly.

Dated: September 1, 2004.
Sally Brice-O'Hara,
Rear Admiral, U.S. Coast Guard, Commander, Fifth Coast Guard District.

[FR Doc. 04-20926 Filed 9-16-04; 8:45 am]

BILLING CODE 4910-15-P